DEPARTMENT OF COMMERCE

Patent and Trademark Office

Agency Information Collection Activities; Submission to the Office of Management and Budget (OMB) for Review and Approval; Comment Request; Invention Promoters/Promotion Firms Complaints

AGENCY: United States Patent and Trademark Office, Department of Commerce.

ACTION: Notice of information collection; request for comment.

SUMMARY: The United States Patent and Trademark Office (USPTO), as required by the Paperwork Reduction Act of 1995, invites comments on the extension and revision of an existing information collection: 0651-0044 (Invention Promoters/Promotion Firms Complaints). The purpose of this notice is to allow 60 days for public comment preceding submission of the information collection to OMB.

DATES: To ensure consideration, comments regarding this information collection must be received on or before May 31, 2022.

ADDRESSES: Interested persons are invited to submit written comments by any of the following methods. Do not submit Confidential Business Information or otherwise sensitive or protected information:

• Email: InformationCollection@uspto.gov. Include “0651-0044 comment” in the subject line of the message.

• Federal Rulemaking Portal: http://www.regulations.gov.

• Mail: Kimberly Hardy, Office of the Chief Administrative Officer, United States Patent and Trademark Office, P.O. Box 1450, Alexandria, VA 22313-1450.

FOR FURTHER INFORMATION CONTACT: Requests for additional information should be directed to Toni Krasnic, Office of Patents Stakeholder Experience, United States Patent and Trademark Office, P.O. Box 1450, Alexandria, VA 22313-1450; by telephone at 571-272-7182; or by email at toni.krasnic@uspto.gov with “0651-0044 comment” in the subject line. Additional information about this information collection is also available at http://www.reginfo.gov under “Information Collection Review.”

SUPPLEMENTARY INFORMATION:

I. Abstract

Pursuant to the Inventors' Rights Act of 1999, 35 U.S.C. 297, and implementing regulations at 37 CFR part 4, the United States Patent and Trademark Office (USPTO) is required to provide a forum for the publication of complaints concerning invention promoters and responses from the invention promoters. Upon receipt of a complaint, the USPTO will forward it to the inventor promoter for a response. The USPTO does not investigate these complaints or participate in any legal proceedings against invention promoters or promotion firms. Under the Act, USPTO is responsible for making complaints and responses available to the public on the USPTO's website.

A complaint submitted to the USPTO must be clearly marked, or otherwise identified, as a complaint. The complaint must include: (1) The name and address of the complaint; (2) the name and address of the invention promoter; (3) the name of the customer; (4) the invention promotion services offered or performed by the invention promoter; (5) the name of the mass media in which the invention promoter advertised providing such services; (6) and example of the relationship between the customer and the invention promoter; and (7) a signature of the complainant. Identifying information is necessary so that the USPTO can both forward the complaint to the invention promoter or promotion firm as well as notify the complainant that the complaint has been forwarded. Complainants should understand that the complaints will be forwarded to the invention promoter for response and that the complaint and response will be made available to the public as required by the Inventors' Rights Act. If the USPTO does not receive a response from the invention promoter, the complaint will be published without a response. The USPTO does not accept, under this program, complaints that request confidentiality.

This information collection contains one form, Complaint Regarding Invention Promoter (PTO/2048), which is used by the public to submit a complaint under this program. This form is available for download from the USPTO website. Use of this form is voluntary, and the complainant may submit his or her complaint without the form via any of the approved methods of collection as long as the complainant includes the necessary information and the submission is clearly marked as a complaint filed under the Inventors' Rights Act. There is no associated form for submitting responses to a complaint.

II. Method of Collection

The items in this information collection may be submitted by mail to Mail Stop 24, Director of the U.S. Patent and Trademark Office, P.O. Box 1450, Alexandria, VA 22313-1450, or electronically via email at innovationdevelopment@uspto.gov with “Scam prevention complaint—submission” in the subject line.

III. Data

OMB Control Number: 0651-0044.

Form:

• PTO/2048 (Complaint Regarding Invention Promoter).

Type of Review: Extension and revision of a currently approved information collection.

Affected Public: Private sector; individuals or households.

Respondent's Obligation: Voluntary.

Estimated Number of Annual Respondents: 22 respondents.

Estimated Number of Annual Responses: 22 responses.

Estimated Time per Response: The USPTO estimates that the responses in this information collection will take the public approximately 15 minutes (0.25 hours) to 30 minutes (.5 hours) to complete. This includes the time to gather the necessary information, create the document, and submit the completed request to the USPTO.

Estimated Total Annual Respondent Burden Hours: 8 hours.

Estimated Total Annual Respondent Hourly Cost Burden: $517.

Table 1—Total Burden Hours and Hourly Costs to Individuals or Households Respondents
Item No. | Item | Estimated annual respondents | Responses per respondent | Estimated annual responses | Estimated time for response (hours) | Estimated burden (hour/year) | Rate ¹ ($/hour) | Estimated annual respondent cost burden
|  | (a) | (b) | (a) x (b) = (c) | (d) | (c) x (d) = (e) | (f) | (e) x (f) = (g)
1 | Complaint Regarding Invention Promoter (PTO/2048) | 12 | 1 | 12 | .25 (15 min) | 3 | $52.93 | $159
Totals |  | 12 |  | 12 |  | 3 |  | 159

Table 2—Total Burden Hours and Hourly Costs to Private Sector Respondents
Item No. | Item | Estimated annual respondents | Responses per respondent | Estimated annual responses | Estimated time for response (hours) | Estimated burden (hour/year) | Rate ² ($/hour) | Estimated annual respondent cost burden
|  | (a) | (b) | (a) x (b) = (c) | (d) | (c) x (d) = (e) | (f) | (e) x (f) = (g)
2 | Response to the Complaint | 10 | 1 | 10 | .5 (30 min) | 5 | $71.59 | $358
Totals |  | 10 |  | 10 |  | 5 |  | 358

Estimated Total Annual Respondent Non-Hourly Cost Burden: $51.

¹ The USPTO uses the mean hourly wage ($52.93) for physical scientists according to the data from the Bureau of Labor Statistics' Occupational Employment Statistics program (occupational code 19-2099; https://www.bls.gov/oes/current/oes192099.htm).

² The USPTO uses the mean hourly wage (71.59) for Lawyers according to the data from the Bureau of Labor Statistics' Occupational Employment Statistics program (occupational code 23-1011; https://www.bls.gov/oes/current/oes231011.htm).

There are no capital start-up, maintenance costs, recordkeeping costs, or filing fees associated with this information collection. However, USPTO estimates that the total annual (non-hour) cost burden for this information collection, in the form of postage costs, is $50.

Postage Costs

Although the USPTO prefers that the items in this information collection be submitted electronically, responses may be submitted by mail through the United States Postal Service (USPS). The USPTO estimates that 6 complaints will be received by first-class mail. The USPTO estimates that the average postage cost of first-class mail will be $0.58, resulting in a total of $4 for mailed complaints. The USPTO also estimates that it will receive 5 responses to complaints using overnight mail services. The USPTO estimates that the average postage cost for a mailed submission, using a Priority Mail 2-day flat rate legal envelope, will be $9.25, resulting in a total of $46 for overnight mail service. Therefore, the USPTO estimates the total mailing costs for this information collection at $50.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. USPTO will include or summarize each comment in the request to OMB to approve this information collection. Before including an address, phone number, email address, or other personal identifying information (PII) in a comment, be aware that the entire comment—including PII—may be made publicly available at any time. While you may ask in your comment to withhold PII from public view, USPTO cannot guarantee that it will be able to do so.

Kimberly Hardy,
Information Collections Officer, Office of the Chief Administrative Officer, United States Patent and Trademark Office.

[FR Doc. 2022-06765 Filed 3-30-22; 8:45 am]

BILLING CODE 3510-16-P